SMALL BUSINESS ADMINISTRATION

[Disaster Declaration # 20139; NEW YORK Disaster Number NY-20005 Declaration of Economic Injury]

Administrative Declaration of an Economic Injury Disaster for the State of New York

AGENCY: U.S. Small Business Administration.

ACTION: Notice.

SUMMARY: This is a notice of an Economic Injury Disaster Loan (EIDL) declaration for the State of NEW YORK dated 12/19/2023.

Incident: Five-Alarm Fire.

Incident Period: 08/20/2023.

DATES: Issued on 12/19/2023.

Economic Injury (EIDL) Loan Application Deadline Date: 09/19/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Kings.

Contiguous Counties:

New York: New York, Queens, Richmond

The Interest Rates are:

| Percent
Business and Small Agricultural Cooperatives without Credit Available Elsewhere | 4.000
Non-Profit Organizations without Credit Available Elsewhere | 2.375

The number assigned to this disaster for economic injury is 201390.

The State which received an EIDL Declaration is New York.

(Catalog of Federal Domestic Assistance Number 59008)

Isabella Guzman,
Administrator.

[FR Doc. 2023-28418 Filed 12-22-23; 8:45 am]

BILLING CODE 8026-09-P